DEPARTMENT OF LABOR

Mine Safety and Health Administration

30 CFR Part 75

RIN 1219-AB78

Proximity Detection Systems for Mobile Machines in Underground Coal Mines

AGENCY: Mine Safety and Health Administration, Labor.

ACTION: Proposed rule; scheduling of public hearing.

SUMMARY: The Mine Safety and Health Administration (MSHA) is announcing the date and location of public hearings on the Agency's proposed rule addressing Proximity Detection Systems for Mobile Machines in Underground Coal Mines, published on September 2, 2015.

DATES: The public hearing dates and locations are listed in the SUPPLEMENTARY INFORMATION section of this document. Comments must be received by midnight Eastern Standard Time on December 1, 2015.

ADDRESSES: Comments, requests to speak, and informational materials for the rulemaking record may be sent to MSHA by any of the following methods:

• Federal e-Rulemaking Portal: http://www.regulations.gov. Follow the instructions for submitting comments.

• Email: zzMSHA-comments@dol.gov.

• Fax: 202-693-9441.

• Mail: MSHA, Office of Standards, Regulations, and Variances, 201 12th Street South, Arlington, Virginia 22202-5452.

• Hand Delivery/Courier: MSHA, 201 12th Street South, Arlington, Virginia, between 9:00 a.m. and 5:00 p.m. Monday through Friday, except Federal holidays. Sign in at the receptionist's desk on the 4th Floor East, Suite 4E401.

FOR FURTHER INFORMATION CONTACT: Sheila A. McConnell, Acting Director, Office of Standards, Regulations, and Variances, MSHA, at McConnell.Sheila.A@dol.gov (Email), 202-693-9440 (Voice), or 202-693-9441 (Fax).

SUPPLEMENTARY INFORMATION: Instructions: All submissions must include MSHA and RIN 1219-AB78 or Docket No. MSHA-2014-0019. Do not include personal information that you do not want publicly disclosed; MSHA will post all comments without change to http://www.regulations.gov and http://www.msha.gov/currentcomments.asp, including any personal information provided. For additional instructions for participation in public hearings on this rulemaking, see the SUPPLEMENTARY INFORMATION section of this document.

Docket: For access to the docket to read comments received, go to http://www.regulations.gov or http://www.msha.gov/currentcomments.asp. To read background documents, go to http://www.regulations.gov. Review the docket in person at MSHA, Office of Standards, Regulations, and Variances, 201 12th Street South, Arlington, Virginia, between 9:00 a.m. and 5:00 p.m. Monday through Friday, except Federal Holidays. Sign in at the receptionist's desk on the 4th floor East, Suite 4E401.

Email Notification: To subscribe to receive an email notification when MSHA publishes rules, program information, instructions, or policy, in the Federal Register, go to http://www.msha.gov/subscriptions/subscribe.aspx.

The hearings will be held in Denver, CO; Birmingham, AL; Beaver, WV; and Indianapolis, IN. Please see the information contained in the table below for locations, dates, and times.

Date and time | Location | Contact No.
October 6, 2015; 9:00 a.m | Embassy Suites Denver, Downtown/Convention Center, 1420 Stout Street, Denver, CO 80202 | 303-592-1000
October 8, 2015; 9:00 a.m | Sheraton, Birmingham/Jefferson Convention Complex, 2100 Richard Arrington Jr. Blvd N., Birmingham AL 35203 | 205-324-5000
October 19, 2015; 8:00 a.m | National Mine Health and Safety Academy, 1301 Airport Road, Beaver, West Virginia 25813 | 304-256-3227
October 29, 2015; 9:00 a.m | Indianapolis Marriott Downtown, 350 W. Maryland Street, Indianapolis, IN 46225 | 317-822-3500

Each hearing will begin with an opening statement from MSHA, followed by an opportunity for members of the public to make oral presentations. Each hearing will end after the last speaker has spoken. Persons do not have to make a written request to speak; however, persons and organizations wishing to speak are encouraged to notify MSHA in advance for scheduling purposes. MSHA requests that parties making presentations at the hearings submit them no later than five days prior to the hearing. Presentations and accompanying documentation will be included in the rulemaking record.

The hearings will be conducted in an informal manner. Formal rules of evidence or cross examination will not apply. The hearing panel may ask questions of speakers and speakers may ask questions of the hearing panel. Verbatim transcripts of the proceedings will be prepared and made a part of the rulemaking record. Copies of the transcripts will be available to the public. The transcripts may also be viewed at http://www.regulations.gov and http://www.msha.gov/tscripts.htm. MSHA will accept comments and other appropriate information for the record from any interested party, including those not presenting oral statements. Comments must be received by midnight Eastern Standard Time on December 1, 2015.

Joseph A. Main,
Assistant Secretary of Labor for Mine Safety and Health.

[FR Doc. 2015-24574 Filed 9-25-15; 8:45 am]

BILLING CODE 4510-43-P